DEPARTMENT OF TRANSPORTATION

Federal Aviation Administration

14 CFR Part 39

[Docket No. FAA-2010-0865; Project Identifier 2010-SW-061-AD; Amendment 39-21653; AD 2021-15-06]

RIN 2120-AA64

Airworthiness Directives; Bell Textron Canada Limited (Type Certificate Previously Held by Bell Helicopter Textron Canada Limited)

AGENCY: Federal Aviation Administration (FAA), DOT.

ACTION: Final rule.

SUMMARY: The FAA is adopting a new airworthiness directive (AD) for certain Bell Helicopter Textron Canada Limited (now Bell Textron Canada Limited) Model 206A, 206B, 206L, 206L-1, 206L-3, and 206L-4 helicopters. This AD was prompted by a report that a certain tail rotor disc assembly, sold as an alternate part, does not conform to the approved configuration. This AD requires determining if an affected part is installed (by doing a maintenance records check or inspection), and if an affected part is found, replacement with a non-affected part. The FAA is issuing this AD to address the unsafe condition on these products.

DATES: This AD is effective August 27, 2021.

The Director of the Federal Register approved the incorporation by reference of certain documents listed in this AD as of August 27, 2021.

ADDRESSES: For service information identified in this final rule, contact Bell Helicopter Textron Canada Limited, 12,800 Rue de l'Avenir, Mirabel, Quebec J7J1R4; phone: 450-437-2862 or 800-363-8023; fax: (450) 433-0272; internet: https://www.bellcustomer.com. You may view the referenced service information at the FAA, Office of the Regional Counsel, Southwest Region, 10101 Hillwood Pkwy., Room 6N-321, Fort Worth, TX 76177. Service information that is incorporated by reference is also available at https://www.regulations.gov by searching for and locating Docket No. FAA-2010-0865.

Examining the AD Docket

You may examine the AD docket at https://www.regulations.gov by searching for and locating Docket No. FAA-2010-0865; or in person at Docket Operations between 9 a.m. and 5 p.m., Monday through Friday, except Federal holidays. The AD docket contains this final rule, the Transport Canada AD, any comments received, and other information. The street address for Docket Operations is U.S. Department of Transportation, Docket Operations, M-30, West Building Ground Floor, Room W12-140, 1200 New Jersey Avenue SE, Washington, DC 20590.

FOR FURTHER INFORMATION CONTACT: Kathleen Arrigotti, Program Manager, Large Aircraft Section, International Validation Branch, Compliance & Airworthiness Division, FAA, 2200 South 216th St., Des Moines, WA 98198; phone and fax: (206) 231-3218; email: kathleen.arrigotti@faa.gov.

SUPPLEMENTARY INFORMATION:

Background

The FAA issued a supplemental notice of proposed rulemaking (SNPRM) to amend 14 CFR part 39 by adding an AD that would apply to certain Bell Textron Canada Limited Model 206A, 206B, 206L, 206L-1, 206L-3, and 206L-4 helicopters. The SNPRM published in the Federal Register on May 7, 2021 (86 FR 24560). The SNPRM proposed to require determining if an affected part is installed (by doing a maintenance records check or inspection), and if an affected part is found, replacement with a non-affected part. The SNPRM also revised the format, rearranged certain paragraphs, converted a certain table to paragraph format, and removed certain language. The SNPRM was prompted by a significant amount of time elapsing since the notice of proposed rulemaking (NPRM) (75 FR 52914, August 30, 2010) was issued, requiring the FAA to reopen the comment period to allow the public a chance to comment on the proposed actions.

Transport Canada Civil Aviation (TCCA), which is the aviation authority for Canada, issued Canadian AD CF-2010-07, dated February 24, 2010 (Canadian AD CF-2010-07), to correct an unsafe condition for certain Bell Helicopter Textron Canada Limited (now Bell Textron Canada Limited) Model 206A, 206B, 206L, 206L-1, 206L-3, and 206L-4 helicopters. TCCA advises that a certain tail rotor disc assembly, sold through Bell Helicopter Spares beginning March 2009, as an alternate, does not conform to the approved configuration. TCCA stated operating a helicopter with the affected tail rotor disc assembly could result in loss of control of the helicopter.

Accordingly, the Canadian AD requires determining if an affected part is installed, and if an affected part is found, replacement with a non-affected part.

Discussion of Final Airworthiness Directive Comments

The FAA received a comment from one commenter, Bell Textron Canada Limited. The following presents the comment received on the SNPRM and the FAA's response to the comment.

Request To Add a Statement for Operators That Already Complied With the Actions

Bell Textron Canada Limited requested that the FAA add a statement to the effect that if the actions in Bell Helicopter Alert Service Bulletin 206-09-123, Revision A, dated June 10, 2009; or Bell Helicopter Alert Service Bulletin 206L-09-157, Revision A, dated June 10, 2009; have already been accomplished then the intent of the AD is met and no further action is required. The commenter stated that many operators will have already complied with the intent of the proposed AD since the service information was released in 2009.

The FAA acknowledges the commenter's request and agrees to clarify. Paragraph (g) of this AD requires accomplishing actions using Bell Helicopter Alert Service Bulletin 206-09-123, Revision A, dated June 10, 2009; or Bell Helicopter Alert Service Bulletin 206L-09-157, Revision A, dated June 10, 2009. Paragraph (f) of this AD states to accomplish the required actions within the compliance times specified, “unless already done.” Therefore, if operators have accomplished the actions required for compliance with this AD before the effective date of this AD, no further action is necessary. The FAA has not revised this AD in this regard.

Conclusion

These helicopters have been approved by the aviation authority of Canada and are approved for operation in the United States. Pursuant to the FAA's bilateral agreement with Canada, TCCA, its technical representative, has notified the FAA of the unsafe condition described in its AD. The FAA reviewed the relevant data, considered the comment received, and determined that air safety requires adopting this AD as proposed. Accordingly, the FAA is issuing this AD to address the unsafe condition on these helicopters.

Related Service Information Under 1 CFR Part 51

The FAA reviewed the following service information. This service information specifies procedures to determine if an affected part is installed, and if an affected part is found, replacement with a non-affected part. These documents are distinct since they apply to different helicopter models.

• Bell Helicopter Alert Service Bulletin 206-09-123, Revision A, dated June 10, 2009.

• Bell Helicopter Alert Service Bulletin 206L-09-157, Revision A, dated June 10, 2009.

This service information is reasonably available because the interested parties have access to it through their normal course of business or by the means identified in the ADDRESSES section.

Costs of Compliance

The FAA estimates that this AD affects 1,493 helicopters of U.S. registry. The FAA estimates the following costs to comply with this AD:

Estimated Costs for Required Actions
Labor cost | Parts cost | Cost per product | Cost on U.S. operators
1 work-hour × $85 per hour = $85 | $303 | $388 | $579,284

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-15-06 Bell Textron Canada Limited (Type Certificate Previously Held by Bell Helicopter Textron Canada Limited): Amendment 39-21653; Docket No. FAA-2010-0865; Project Identifier 2010-SW-061-AD.

(a) Effective Date

This airworthiness directive (AD) is effective August 27, 2021.

(b) Affected ADs

None.

(c) Applicability

This AD applies to the following Bell Textron Canada Limited (type certificate previously held by Bell Helicopter Textron Canada Limited) helicopters, certificated in any category:

(1) Model 206A, serial numbers 004 through 660 inclusive, and 672 through 715 inclusive;

(2) Model 206B, all serial numbers, including those converted from Model 206A;

(3) Model 206L, serial numbers 45004 through 45153 inclusive, and 46601 through 46617 inclusive;

(4) Model 206L-1, serial numbers 45154 through 45790 inclusive;

(5) Model 206L-3, serial numbers 51001 through 51612 inclusive; and

(6) Model 206L-4, all serial numbers.

(d) Subject

Joint Aircraft Service Component (JASC) Code: 65, Tail Rotor Drive.

(e) Unsafe Condition

This AD was prompted by a report that a certain tail rotor disc assembly, sold as an alternate part, does not conform to the approved configuration. The FAA is issuing this AD to address helicopters operating with a certain tail rotor disc assembly, sold as an alternate part, that does not conform to the approved configuration, which could result in loss of control of the helicopter.

(f) Compliance

Comply with this AD within the compliance times specified, unless already done.

(g) Required Actions

Do the actions specified in paragraphs (g)(1) through (4) of this AD, in accordance with Bell Helicopter Alert Service Bulletin 206-09-123, Revision A, dated June 10, 2009; or Bell Helicopter Alert Service Bulletin 206L-09-157, Revision A, dated June 10, 2009, as applicable.

(1) Within 30 days or 100 hours time-in-service (TIS) after the effective date of this AD, whichever occurs first, review the helicopter maintenance records to determine if a disc assembly, part number (P/N) 101584-1 or -2, is installed.

(2) If, during the maintenance records review required by paragraph (g)(1) of this AD, you cannot positively determine that disc assembly P/N 101584-1 or -2 is not installed, within 30 days or 100 hours TIS after the effective date of this AD, whichever occurs first, inspect the tail rotor driveshaft system to determine if disc assembly P/N 101584-1 or -2 is installed.

(3) If, during the maintenance records review required by paragraph (g)(1) of the this AD or during the inspection required by paragraph (g)(2) of this AD, you can positively determine that a disc assembly P/N 101584-1 or -2 is not installed, before further flight, make an entry in the log book showing compliance with this AD.

(4) If, during the maintenance records review required by paragraph (g)(1) of this AD or during the inspection required by paragraph (g)(2) of this AD, you can positively determine that a disc assembly P/N 101584-1 or -2 is installed, within 30 days or 100 hours TIS after the effective date of this AD, whichever occurs first, replace disc assembly P/N 101584-1 or -2 with disc assembly P/N 32721-1.

(h) Parts Installation Prohibition

As of the effective date of this AD, do not install disc assembly P/N 101584-1 or -2.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Kathleen Arrigotti, Program Manager, Large Aircraft Section, International Validation Branch, Compliance & Airworthiness Division, FAA, 2200 South 216th St., Des Moines, WA 98198; phone and fax: (206) 231-3218; email: kathleen.arrigotti@faa.gov.

(2) The subject of this AD is addressed in Transport Canada Civil Aviation (TCCA) Canadian AD CF-2010-07, dated February 24, 2010. You may view the TCCA AD at https://www.regulations.gov in Docket No. FAA-2010-0865.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Bell Helicopter Alert Service Bulletin 206-09-123, Revision A, dated June 10, 2009.

(ii) Bell Helicopter Alert Service Bulletin 206L-09-157, Revision A, dated June 10, 2009.

(3) For service information identified in this AD, contact Bell Helicopter Textron Canada Limited, 12,800 Rue de l'Avenir, Mirabel, Quebec J7J1R4; phone: 450-437-2862 or 800-363-8023; fax: (450) 433-0272; internet: https://www.bellcustomer.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fedreg.legal@nara.gov, or go to: https://www.archives.gov/federal-register/cfr/ibr-locations.html.

Issued on July 9, 2021.
Gaetano A. Sciortino,
Deputy Director for Strategic Initiatives, Compliance & Airworthiness Division, Aircraft Certification Service.

[FR Doc. 2021-15478 Filed 7-22-21; 8:45 am]

BILLING CODE 4910-13-P